ENVIRONMENTAL PROTECTION AGENCY

40 CFR Part 52

[EPA-R08-OAR-2020-0098; FRL-12019-01-R8]

Air Plan Approval; State of Utah; Utah State Implementation Plan Revisions

AGENCY: Environmental Protection Agency (EPA).

ACTION: Final rule.

SUMMARY: The Environmental Protection Agency (EPA) is approving State Implementation Plan (SIP) revisions submitted by the State of Utah on April 19, 2018; May 21, 2020; and July 21, 2020. These SIP submissions include revisions to air quality rules within Utah Administrative Code (UAC) title R307. EPA is taking this action pursuant to the Clean Air Act (CAA or the Act).

DATES: This rule is effective on July 31, 2024.

ADDRESSES: EPA has established a docket for this action under Docket ID No. EPA-R08-OAR-2020-0098. All documents in the docket are listed on the https://www.regulations.gov website. Although listed in the index, some information is not publicly available, e.g., CBI or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Crystal Ostigaard, Air and Radiation Division, EPA, Region 8, Mailcode 8ARD-IO, 1595 Wynkoop Street, Denver, Colorado 80202-1129, telephone number: (303) 312-6602, email address: ostigaard.crystal@epa.gov.

SUPPLEMENTARY INFORMATION: Throughout this document “we,” “us,” and “our” means EPA.

I. Background

The background and legal basis for this action are discussed in detail in our November 6, 2020 proposal (85 FR 71023).¹ We proposed to approve the Governor of Utah's submittal of May 21, 2020, including revisions to UAC R307-110-32 (which incorporates by reference Utah SIP section X.B., the vehicle inspection and maintenance (I/M) program for Davis County) and R307-110-35 (which incorporates by reference Utah SIP section X.E., the vehicle I/M program for Weber County).

¹ The November 6, 2020 (85 FR 71023) proposed rule also contained our proposed approvals of the Salt Lake City and Provo Serious PM2.5 redesignation requests; maintenance plans; the maintenance plans' 2035 motor vehicle emissions budgets (MVEB) for emissions of direct PM2.5, nitrogen oxides (NOX) and volatile organic compounds (VOC); each maintenance plan's budget trading mechanisms related to emissions of PM2.5 precursors; UT SIP sections IX.H.11, 12, and 13; R307-110-10; R307-110-17; and each nonattainment area's (NAA) full best available control measure/best available control technology (BACM/BACT) determinations for major stationary sources, area sources, and on-road and off-road mobile sources. We are not taking final action on any of these proposed submissions within this action but will be addressing them in one or more future actions.

Additionally, we proposed to approve SIP revisions and new rules submitted by the Utah Division of Air Quality (UDAQ) on April 19, 2018, May 21, 2020, and July 21, 2020, specifically UAC R307-208, R307-230, R307-304, R307-335, R307-343, R307-344, R307-345, R307-346, R307-347, R307-348, R307-349, R307-350, R307-351, R307-352, R307-353, R307-354 and R307-355.

II. Response to Comments

Our proposed rulemaking provided notice of a 30-day public comment period. On November 10, 2020, Utah Physicians for a Healthy Environment submitted a request to extend the comment period by thirty days and for EPA to grant a formal, online hearing. EPA reviewed this request but denied it, maintaining the original December 7, 2020, comment deadline and declining to hold the requested hearing.² EPA received no comments specific to these four submittals.

² Located within the docket, titled “11-10-2020 public comment—Dr. Moench_EPA Response.”

III. Final Action

We are approving the submittal of May 21, 2020, with revisions to R307-110-32, R307-110-35 (including the incorporated-by-reference revisions to Utah SIP Sections X.B. and X.E., which are the I/M programs for Davis and Weber Counties), but we are not acting on appendix D (Diesel Inspection Procedures) or appendix F (Diesel Fueled Vehicle Test Procedure) of Utah SIP sections X.B. and X.E., respectively.³ The diesel inspection and testing procedures in these two appendices are not required submissions under CAA section 110(c) or required plan items under CAA section 179, and EPA has not promulgated criteria for evaluating them in 40 CFR part 51, subpart S. Further, there is a lack of correlation between opacity and particulate matter (PM) mass emissions in diesel vehicles, and relevant literature and studies suggest that adjusting diesel vehicles to reduce the opacity of emissions may result in an increase in emissions of NOX, which is a precursor to the formation of PM2.5.⁴

³ General information on diesel vehicles in I/M Programs: https://www.epa.gov/state-and-local-transportation/vehicle-emissions-inspection-and-maintenance-im-information-state; February 1995, EPA-AA-EPSD-IM-94-1226, EPA I/M Briefing Book—Everything You Ever Wanted to Know About Inspection and Maintenance (pg. 146-147); April 3, 1997, Guidance to States on In-Use Smoke Test Procedure for Highway Heavy-Duty Diesel Vehicles; and February 25, 1999, Guidance to States on Smoke Opacity Cutpoints to be used with the SAE J1667 In-Use Smoke Test Procedures.

⁴ McCormick, R.; Graboski, M.; Alleman, T.; Alvarez, J.; Environ. Sci. Technol. 2003, 37, 630-637.

EPA is also approving Utah UAC sections R307-200 and R307-300 revisions and new rules submitted by UDAQ on April 19, 2018, May 21, 2020, and July 21, 2020, which strengthen the SIP. These rules are R307-208, R307-230, R307-304, R307-335, R307-343, R307-344, R307-345, R307-346, R307-347, R307-348, R307-349, R307-350, R307-351, R307-352, R307-353, R307-354 and R307-355.

The revisions being approved in this final action clarify several area source rules, including reorganizing provisions related to work practices and recordkeeping, and make other general administrative updates. In this final rule we are not determining that any rule satisfies BACM requirements for the Serious PM2.5 nonattainment areas (NAAs), nor are we reconsidering the substantive approvability under the CAA of provisions that have been previously approved into the SIP.

IV. Environmental Justice Considerations

EPA reviewed demographic data, which provides an assessment of individual demographic groups of the populations living within the Salt Lake City and Provo PM2.5 NAAs.⁵ EPA then compared the data to the national average for each of the demographic groups. The results of this analysis are being provided for informational and transparency purposes. The results of the demographic analysis indicate that, for populations within the Salt Lake City PM2.5 NAA, the percentage of the population consisting of people of color is less than the national average (25% vs. 40%). For populations within the Provo PM2.5 NAA, the results of the demographic analysis indicate that the percentage of the population consisting of people of color is less than the national average (18% vs. 40%). The percentage of people living below the poverty level in the Salt Lake City PM2.5 NAA is lower than the national average (23% vs. 30%). For the Provo PM2.5 NAA, the percentage of people living below the poverty level is lower than the national average (27% vs. 30%).

⁵ The Salt Lake City and Provo PM2.5 NAA boundaries can be found at: https://www.ecfr.gov/current/title-40/chapter-I/subchapter-C/part-81/subpart-C/section-81.345, within the Utah—2006 24-Hour PM2.5 NAAQS table.

This final action approves state rules and rule revisions into the SIP and will establish federally enforceable requirements that will reduce emissions of PM2.5 and PM2.5 precursors. We expect that this action and the resulting emissions reductions will be neutral or will contribute to reduced environmental and health impacts on all populations in the NAAs, including people of color and low-income populations in the Salt Lake City and Provo PM2.5 NAAs. Further, there is no information in the record indicating that this action is expected to have disproportionately high or adverse human health or environmental effects on a particular group of people.

V. Incorporation by Reference

In this document, EPA is taking final action to approve regulatory text that includes incorporation by reference. In accordance with requirements of 1 CFR 51.5, EPA is taking final action to approve the incorporation by reference of: R307-110-32; R307-110-35; R307-208; R307-230; R307-304; R307-335; R307-343; R307-344; R307-345; R307-346; R307-347; R307-348; R307-349; R307-350; R307-351; R307-352; R307-353; R307-354; R307-355; Utah SIP section X.B., excluding appendix D; and Utah SIP section X.E., excluding appendix F, as discussed in section III. of this preamble. EPA has made, and will continue to make, these materials generally available through https://www.regulations.gov and at the EPA Region 8 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.⁶

⁶ See 62 FR 27968 (May 22, 1997).

VI. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the Clean Air Act. Accordingly, this action approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. Accordingly, the rule does not have tribal implications and will not impose substantial direct costs on tribal governments or preempt tribal law as specified by Executive Order 13175 (65 FR 67249, November 9, 2000).

Finally, Executive Order 12898 (Federal Actions To Address Environmental Justice in Minority Populations and Low-Income Populations, 59 FR 7629, Feb. 16, 1994) directs federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.” The air agency did not evaluate environmental justice considerations as part of its SIP submittal; the CAA and applicable implementing regulations neither prohibit nor require such an evaluation. Consistent with EPA's discretion under the CAA, EPA has evaluated the environmental justice considerations of this action, as is described above in the section titled, “Environmental Justice Considerations.” Due to the nature of the action being taken here, this action is expected to have a neutral to positive impact on the air quality of the affected area. In addition, there is no information in the record inconsistent with the stated goal of E.O. 12898 of achieving environmental justice for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 30, 2024. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: June 17, 2024.
KC Becker,
Regional Administrator, Region 8.

For the reasons set forth in the preamble, 40 CFR part 52 is amended as follows:

PART 52—APPROVAL AND PROMULGATION OF IMPLEMENTATION PLANS

1. The authority citation for part 52 continues to read as follows:

Authority: 42 U.S.C. 7401 et seq.

Subpart TT—Utah

2. In § 52.2320:

a. In the table in paragraph (c):

i. Revise the entries “R307-110-32” and “R307-110-35”;

ii. Add the center heading “R307-208. Outdoor Wood Boilers” and the entry “R307-208” in numerical order;

iii. Add the center heading “R307-230. NOX Emission Limits for Natural Gas-Fired Water Heaters” and the entry “R307-230” in numerical order;

iv. Add the center heading “R307-304. Solvent Cleaning” and the entry “R307-304” in numerical order;

v. Revise the center heading “R307-335. Degreasing and Solvent Cleaning Operations” to read “R307-335. Degreasing” and the entry “R307-335”; and

vi. Revise the entries “R307-343”, “R307-344”, “R307-345”, “R307-346”, “R307-347”, “R307-348”, “R307-349”, “R307-350”, “R307-351”, “R307-352”, “R307-353”, “R307-354”, and “R307-355”.

b. In the table in paragraph (e):

i. Revise the entries “Section X.B. Davis County” and “Section X.E. Weber County”.

The revisions and additions read as follows:

§ 52.2320 Identification of plan.

* * * * *

(c) * * *

Rule No. | Rule title | State effective date | Final rule citation, date | Comments
* * * * * * *
R307-110. General Requirements: State Implementation Plan
* * * * * * *
R307-110-32 | Section X, Vehicle Inspection and Maintenance Program, Part B, Davis County | 3/4/2020 | [insert Federal Register citation], 7/1/2024 | Excluding appendix D.
* * * * * * *
R307-110-35 | Section X, Vehicle Inspection and Maintenance Program, Part E, Weber County | 3/4/2020 | [insert Federal Register citation], 7/1/2024 | Excluding appendix F.
* * * * * * *
R307-208. Outdoor Wood Boilers
R307-208 | Outdoor Wood Boilers | 4/10/2013 | [insert Federal Register citation], 7/1/2024
* * * * * * *
R307-230. NOX Emission Limits for Natural Gas-Fired Water Heaters
R307-230 | NOX Emission Limits for Natural Gas-Fired Water Heaters | 4/3/2017 | [insert Federal Register citation], 7/1/2024
* * * * * * *
R307-304. Solvent Cleaning
R307-304 | Solvent Cleaning | 12/6/2017 | [insert Federal Register citation], 7/1/2024
* * * * * * *
R307-335. Degreasing
R307-335 | Degreasing | 10/29/2017 | [insert Federal Register citation], 7/1/2024
* * * * * * *
R307-343. Emissions Standards for Wood Furniture Manufacturing Operations
R307-343 | Emissions Standards for Wood Furniture Manufacturing Operations | 12/6/2017 | [insert Federal Register citation], 7/1/2024
R307-344. Paper, Film, & Foil Coatings
R307-344 | Paper, Film, & Foil Coatings | 12/6/2017 | [insert Federal Register citation], 7/1/2024
R307-345. Fabric & Vinyl Coatings
R307-345 | Fabric & Vinyl Coatings | 12/6/2017 | [insert Federal Register citation], 7/1/2024
R307-346. Metal Furniture Surface Coatings
R307-346 | Metal Furniture Surface Coatings | 12/6/2017 | [insert Federal Register citation], 7/1/2024
R307-347. Large Appliance Surface Coatings
R307-347 | Large Appliance Surface Coatings | 12/6/2017 | [insert Federal Register citation], 7/1/2024
R307-348. Magnet Wire Coatings
R307-348 | Magnet Wire Coatings | 12/6/2017 | [insert Federal Register citation], 7/1/2024
R307-349. Flat Wood Panel Coatings
R307-349 | Flat Wood Panel Coatings | 12/6/2017 | [insert Federal Register citation], 7/1/2024
R307-350. Miscellaneous Metal Parts & Products Coatings
R307-350 | Miscellaneous Metal Parts & Products Coatings | 12/6/2017 | [insert Federal Register citation], 7/1/2024
R307-351. Graphic Arts
R307-351 | Graphic Arts | 12/6/2017 | [insert Federal Register citation], 7/1/2024
R307-352. Metal Container, Closure & Coatings
R307-352 | Metal Container, Closure & Coatings | 12/6/2017 | [insert Federal Register citation], 7/1/2024
R307-353. Plastic Parts Coatings
R307-353 | Plastic Parts Coatings | 12/6/2017 | [insert Federal Register citation], 7/1/2024
R307-354. Automotive Refinishing Coatings
R307-354 | Automotive Refinishing Coatings | 12/6/2017 | [insert Federal Register citation], 7/1/2024
R307-355. Control of Emissions from Aerospace Manufacture & Rework Facilities
R307-355 | Control of Emissions from Aerospace Manufacture & Rework Facilities | 12/6/2017 | [insert Federal Register citation], 7/1/2024
* * * * * * *

* * * * *

(e) * * *

Rule title | State effective date | Final rule citation, date | Comments
* * * * * * *
X. Vehicle Inspection and Maintenance Program
* * * * * * *
Section X.B. Davis County | 3/4/2020 | [insert Federal Register citation], 7/1/2024
* * * * * * *
Section X.E. Weber County | 3/4/2020 | [insert Federal Register citation], 7/1/2024
* * * * * * *

[FR Doc. 2024-14136 Filed 6-28-24; 8:45 am]

BILLING CODE 6560-50-P